DEPARTMENT OF COMMERCE

National Oceanic and Atmospheric Administration

RIN 0648-XF616

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel to consider actions affecting New England fisheries in the exclusive economic zone (EEZ). Recommendations from this group will be brought to the full Council for formal consideration and action, if appropriate.

DATES: This meeting will be held on Tuesday, September 19, 2017 at 9:30 a.m.

ADDRESSES: The meeting will be held at the Courtyard by Fairfield Inn & Suites, 185 MacArthur Drive, New Bedford, MA 02740; phone: (774) 634-2000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scallop Advisory Panel will review preliminary 2017 scallop survey results and discuss initial recommendations from the Scallop Plan Development Team (PDT) for FY 2018 and FY 2019 (default) fishery specifications (Framework 29). They also plan to review and provide input on Framework 29 management measures; which include: (1) Northern Gulf of Maine Management Measures; (2) Development and modification of flatfish accountability measures; (3) Modifying access area boundaries to be consistent with potential changes to habitat and groundfish mortality closures through OHA2. The panel will review and discuss results from the LAGC IFQ program review. They will also develop a list of potential 2018 scallop work priorities. Additionally, the panel will discuss whether there are any regulations in the Scallop FMP that could be eliminated, improved, or streamlined. Several recent Executive Orders have been issued about streamlining current regulations, and NOAA is seeking public input on the efficiency and effectiveness of current regulations and whether they can be improved. Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. Consistent with 16 U.S.C. 1852, a copy of the recording is available upon request.

Authority: 16 U.S.C. 1801 et seq.

Dated: August 24, 2017.
Tracey L. Thompson,
Acting Deputy Director, Office of Sustainable Fisheries, National Marine Fisheries Service.

[FR Doc. 2017-18298 Filed 8-28-17; 8:45 am]

BILLING CODE 3510-22-P